DEPARTMENT OF TRANSPORTATION

Federal Highway Administration

[Docket No. FHWA-2017-0043]

Motorcyclist Advisory Council; Notice of Public Meeting

AGENCY: Federal Highway Administration (FHWA), U.S. Department of Transportation.

ACTION: Notice of public meeting; Correction.

SUMMARY: This notice corrects information contained in the announcement of the second meeting of Fiscal Year 2019 of the Motorcyclist Advisory Council (MAC) published on June 17, 2019. The correct meeting date and public participation request dates are contained herein.

DATES: The meeting will be held from 9:00 a.m. to 1:00 p.m. ET on Thursday, August 15, 2019.

ADDRESSES: The MAC will convene virtually, via Web conference connection. There is no physical address for the meeting.

FOR FURTHER INFORMATION CONTACT: Mr. Michael Griffith, the Designated Federal Official, Office of Safety, 202-366-9469, (mike.griffith@dot.gov), or Ms. Guan Xu, 202-366-5892, (guan.xu@dot.gov), Federal Highway Administration, 1200 New Jersey Avenue SE, Washington, DC 20590.

SUPPLEMENTARY INFORMATION:

Electronic Access

An electronic copy of this notice may be downloaded from the Federal Register's home page at: http://www.archives.gov; the Government Publishing Office's database at: https://www.gpo.gov/fdsys/; or the specific docket page at: www.regulations.gov.

Background

The FHWA published a Notice of Public Meeting for the MAC on June 19, 2019, at 84 FR 28126, which incorrectly listed the date of the meeting and other information. This notice corrects those errors.

Purpose of the Committee: Section 1426 of the Fixing America's Surface Transportation Act, Public Law 114-94 required the FHWA Administrator, on behalf of the Secretary, to establish a MAC. The MAC is responsible for providing advice and making recommendations concerning infrastructure issues related to motorcyclist safety, including barrier design; road design, construction, and maintenance practices; and the architecture and implementation of intelligent transportation system technologies. On July 28, 2017, the Secretary of Transportation appointed 10 members to MAC, and 3 meetings have been held to date.

Tentative Agenda: The agenda will include a topical discussion of the infrastructure issues described above, namely: Barrier design; road design, construction, and maintenance practices; and the architecture and implementation of intelligent transportation system technologies.

Public Participation: This meeting will be open to the public. Members of the public who wish to attend are asked to send an email to MAC-FHWA@dot.gov no later than August 1, 2019, in order to receive access information for the Web conference room. The Designated Federal Official and the Chair of the Committee will conduct the meeting to facilitate the orderly conduct of business. If you would like to file a written statement with the Committee, you may do so either before or after the meeting by submitting an electronic copy of that statement to MAC-FHWA@dot.gov or the specific docket page at: www.regulations.gov. If you would like to make oral statements regarding any of the items on the agenda, you should contact Mr. Michael Griffith at the phone number listed above or email your request to MAC-FHWA@dot.gov. You must make your request for an oral statement at least 5 business days prior to the meeting. Reasonable provisions will be made to include any such presentation on the agenda. Public comment will be limited to 3 minutes per speaker, per topic.

Services for Individuals with Disabilities: The Federal Highway Administration is committed to providing equal access to this meeting for all participants. If you need alternative formats or services because of a disability, please send an email to MAC-FHWA@dot.gov or contact Michael Griffith at 202-366-9469 by August 1, 2019.

Minutes: An electronic copy of the minutes from all meetings will be available for download within 60 days of the conclusion of the meeting at: https://safety.fhwa.dot.gov/ motorcycles/.

Authority: Section 1426 of Pub. L. 114-94.

Nicole R. Nason,
Administrator, Federal Highway Administration.

[FR Doc. 2019-13369 Filed 6-21-19; 8:45 am]

BILLING CODE 4910-22-P